SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 9, 2003.

ADDRESSES: Send all comments regarding whether these information collections are necessary for the proper performance of the function of the agency, whether the burden estimates are accurate, and if there are ways to minimize the estimated burden and enhance the quality of the collections, to Linda K. Waters, Program Analyst, Office of Government Contracting, Small Business Administration, 409 3rd Street SW., Suite 8800, Washington, DC 20416.

FOR FURTHER INFORMATION CONTACT: Linda K. Waters, Program Analyst, (202) 205-7315 or Curtis B. Rich, Management Analyst, (202) 205-7030.

SUPPLEMENTARY INFORMATION: Title: “Prime Contracts program Quarterly Report Part A and B”.

Form No's: 843 A & B.

Description of Respondents: Procurement Center Representatives.

Annual Responses: 63.

Annual Burden: 1,020.

SUPPLEMENTARY INFORMATION: Title: “Application for Certificate of Competency”.

Form No: 1531.

Description of Respondents: Small Business Owners.

Annual Responses: 300.

Annual Burden: 2,400.

SUPPLEMENTARY INFORMATION: Title: “7(j) Management and Technical Assistance Program Sponsored Training Impact and Longitudinal Studies”.

Form No's: 2167, 2168, 2169, 2170, 2171.

Description of Respondents: Person involved in the Executive Education Program (EEP).

Annual Responses: 500.

Annual Burden: 250.

ADDRESSES: Send all comments regarding whether this information collection is necessary for the proper performance of the function of the agency, whether the burden estimates are accurate, and if there are ways to minimize the estimated burden and enhance the quality of the collection, to Charles Ou, Economist, Office of Advocacy, Small Business Administration, 409 3rd Street SW., Suite 7800, Washington, DC 20416.

FOR FURTHER INFORMATION CONTACT: Charles Ou, Economist, (202) 205-6966 or Curtis B. Rich, Management Analyst, (202) 205-7030.

SUPPLEMENTARY INFORMATION: Title: “Value of Worker Training Programs to Small Business”.

Form No: N/A.

Description of Respondents: Small and Large Businesses.

Annual Responses: 1.

Annual Burden: 1,244.

ADDRESSES: Send all comments regarding whether this information collection is necessary for the proper performance of the function of the agency, whether the burden estimates are accurate, and if there are ways to minimize the estimated burden and enhance the quality of the collection, to Sandra L. Johnston, Program Analyst, Office of Financial Assistance, Small Business Administration, 409 3rd Street SW., Suite 8300 Washington, DC 20416.

FOR FURTHER INFORMATION CONTACT: Sandra L. Johnston, Program Analyst, (202) 205-7528 or Curtis B. Rich, Management Analyst, (202) 205-7030.

SUPPLEMENTARY INFORMATION: Title: “CDC Annual Report Guide”.

Form No's: 1253 & 1235A.

Description of Respondents: Certified Development Companies.

Annual Responses: 270.

Annual Burden: 7,560.

ADDRESSES: Send all comments regarding whether this information collection is necessary for the proper performance of the function of the agency, whether the burden estimates are accurate, and if there are ways to minimize the estimated burden and enhance the quality of the collection, to Marcia Pixley, Regulatory Fairness Coordinator, Office of the National Ombudsman, Small Business Administration, 409 3rd Street SW., Suite 7125 Washington, DC 20416.

FOR FURTHER INFORMATION CONTACT: Marcia Pixley, Regulatory Fairness Coordinator, (202) 619-1732 or Curtis B. Rich, Management Analyst, (202) 205-7030.

SUPPLEMENTARY INFORMATION: Title: “Small Business and Agriculture Regulatory Enforcement Form”.

Form No: 1993.

Description of Respondents: Small Business Owners and Farmers.

Annual Responses: 1,000.

Annual Burden: 500.

ADDRESSES: Send all comments regarding whether this information collection is necessary for the proper performance of the function of the agency, whether the burden estimates are accurate, and if there are ways to minimize the estimated burden and enhance the quality of the collection, to Cynthia G. Pitts, Program Analyst, Office of Disaster Assistance, Small Business Administration, 409 3rd Street SW., Suite 6050 Washington, DC 20416.

FOR FURTHER INFORMATION CONTACT: Cynthia G. Pitts, Program Analyst, (202) 205-7570 or Curtis B. Rich, Management Analyst, (202) 205-7030.

SUPPLEMENTARY INFORMATION: Title: “Pre-Disaster Mitigation Small Business Loan Application”.

Form No: 5M.

Description of Respondents: Business Application for the Pre-Disaster mitigation loan program.

Annual Responses: 2,500.

Annual Burden: 5,000.

Jacqueline White,
Chief, Administrative Information Branch.

[FR Doc. 03-8663 Filed 4-8-03; 8:45 am]

BILLING CODE 8025-01-P